ENVIRONMENTAL PROTECTION AGENCY

40 CFR Part 52

[EPA-R10-OAR-2012-0712; FRL-9772-4]

Revision to the Washington State Implementation Plan; Tacoma-Pierce County Nonattainment Area

AGENCY: Environmental Protection Agency (EPA).

ACTION: Proposed rule.

SUMMARY: EPA is proposing to approve a State Implementation Plan (SIP) revision submitted by the Washington Department of Ecology (Ecology) dated November 28, 2012. This SIP revision consists of two elements proposed for EPA approval. First, EPA is proposing to approve the “2008 Baseline Emissions Inventory and Documentation” included as Appendix A to the SIP revision. The emissions inventory was submitted to meet Clean Air Act (CAA) requirements related to the Tacoma-Pierce County nonattainment area for the 2006 fine particulate matter (PM2.5) National Ambient Air Quality Standard (NAAQS). Second, EPA is proposing to approve updated rules submitted by Ecology on behalf of the Puget Sound Clean Air Agency (PSCAA), contained in Appendix B, “SIP Strengthening Rules.” The updated PSCAA rules help implement the recommendations of the Tacoma-Pierce County Clean Air Task Force, an advisory committee of community leaders, citizen representatives, public health advocates, and other affected parties, formed to develop PM2.5 reduction strategies.

DATES: Written comments must be received on or before February 22, 2013.

ADDRESSES: Submit your comments, identified by Docket ID No. EPA-R10-OAR-2012-0712, by any of the following methods:

• www.regulations.gov: Follow the on-line instructions for submitting comments.

• Email: R10-Public_Comments@epa.gov.

• Mail: Jeff Hunt, EPA Region 10, Office of Air, Waste and Toxics (AWT-107), 1200 Sixth Avenue, Suite 900, Seattle, WA 98101.

• Hand Delivery/Courier: EPA Region 10, 1200 Sixth Avenue, Suite 900, Seattle, WA 98101. Attention: Jeff Hunt, Office of Air, Waste and Toxics, AWT-107. Such deliveries are only accepted during normal hours of operation, and special arrangements should be made for deliveries of boxed information.

Instructions: Direct your comments to Docket ID No. EPA-R10-OAR-2012-0712. EPA's policy is that all comments received will be included in the public docket without change and may be made available online at www.regulations.gov, including any personal information provided, unless the comment includes information claimed to be Confidential Business Information (CBI) or other information whose disclosure is restricted by statute. Do not submit information that you consider to be CBI or otherwise protected through www.regulations.gov or email. The www.regulations.gov Web site is an “anonymous access” system, which means EPA will not know your identity or contact information unless you provide it in the body of your comment. If you send an email comment directly to EPA without going through www.regulations.gov your email address will be automatically captured and included as part of the comment that is placed in the public docket and made available on the Internet. If you submit an electronic comment, EPA recommends that you include your name and other contact information in the body of your comment and with any disk or CD-ROM you submit. If EPA cannot read your comment due to technical difficulties and cannot contact you for clarification, EPA may not be able to consider your comment. Electronic files should avoid the use of special characters, any form of encryption, and be free of any defects or viruses.

Docket: All documents in the docket are listed in the www.regulations.gov index. Although listed in the index, some information is not publicly available, e.g., CBI or other information whose disclosure is restricted by statute. Certain other material, such as copyrighted material, is not placed on the Internet and will be publicly available only in hard copy. Publicly available docket materials are available either electronically in www.regulations.gov or in hard copy during normal business hours at the Office of Air, Waste and Toxics, EPA Region 10, 1200 Sixth Avenue, Seattle, WA 98101.

FOR FURTHER INFORMATION CONTACT: Jeff Hunt at telephone number: (206) 553-0256, email address: hunt.jeff@epa.gov, or the above EPA, Region 10 address.

SUPPLEMENTARY INFORMATION: Throughout this document whenever “we,” “us,” or “our” is used, we mean EPA.

The following outline is provided to aid in locating information in this preamble.

I. Background

II. Summary of SIP Revision

III. Proposed Action

IV. Statutory and Executive Order Reviews

I. Background

On July 18, 1997, EPA promulgated the 1997 PM2.5 NAAQS, including an annual standard of 15.0 micrograms per cubic meter (μg/m³) based on a 3-year average of annual mean PM2.5 concentrations, and a 24-hour (or daily) standard of 65 μg/m³ based on a 3-year average of the 98th percentile of 24-hour concentrations (62 FR 38652). EPA established the standards based on significant evidence and numerous health studies demonstrating that serious health effects are associated with exposures to PM2.5. On October 17, 2006, EPA revised the PM2.5 24-hour standard from 65 μg/m³ to 35 μg/m³ based on additional evidence and health studies (71 FR 61144).

Following promulgation of a new or revised NAAQS, EPA is required by the CAA to designate areas throughout the United States as attaining or not attaining the NAAQS; this designation process is described in section 107(d)(1) of the CAA. Effective December 14, 2009, EPA designated Tacoma-Pierce County (partial county designation) as a nonattainment area for the revised 2006 24-hour PM2.5 standard (74 FR 58688; published on November 13, 2009). Under the CAA, states are required to submit a revision to the SIP to meet nonattainment requirements within three years of the effective date of designation.

Prior to Washington's SIP revision submittal, EPA issued a proposed finding on July 5, 2012, called a clean data determination, based upon certified ambient air monitoring data showing that the Tacoma-Pierce County nonattainment area had met the 2006 PM2.5 NAAQS for the most recent 2009-2011 monitoring period (77 FR 39657). EPA received no comments on the proposal and subsequently issued a final clean data determination on September 4, 2012 (77 FR 53772). In accordance with 40 CFR 51.1004(c), the September 4, 2012 clean data determination suspends the requirements for Washington to submit an attainment demonstration, associated reasonably available control measures, a reasonable further progress plan, contingency measures, and most other planning SIP revisions related to attainment of the standard for so long as the nonattainment area continues to meet the 2006 PM2.5 NAAQS. However, 40 CFR 51.1004(c) does not suspend the obligation under CAA section 172(c)(3) for submission and approval of a comprehensive, accurate, and current inventory of actual emissions.

II. Summary of SIP Revision

Ecology's November 28, 2012 SIP revision contains two elements for proposed EPA approval, Appendix A and Appendix B. Appendix A, titled “2008 Baseline Emissions Inventory and Documentation,” was submitted to meet the obligation under CAA section 172(c)(3) for an emissions inventory. The 2008 base year emissions inventory includes emissions estimates that cover the general source categories of stationary point sources, stationary nonpoint sources, nonroad mobile sources, and onroad mobile sources. The pollutants that comprise the inventory include PM2.5 and precursors to the formation of PM2.5 including nitrogen oxides (NOX), volatile organic compounds (VOCs), ammonia (NH3), and sulfur dioxide (SO2). EPA reviewed the results, procedures and methodologies for the 2008 base year emissions inventory in accordance with current EPA guidance, “Emissions Inventory Guidance for Implementation of Ozone and Particulate Matter NAAQS and Regional Haze Regulations,” August 2005. The year 2008 was selected by Ecology as the base year for the emissions inventory in accordance with 40 CFR 51.1008(b). Ecology's SIP revision contained a discussion of the emissions inventory development process and relevant requirements, as well as the emissions inventory. EPA agrees that the process used to develop this emissions inventory meets the requirements of CAA section 172(c)(3), the implementing regulations, and EPA guidance for emission inventories.

Appendix B of the SIP revision, titled “SIP Strengthening Rules,” contains the most recent version of Regulation 1—Article 13: Solid Fuel Burning Device Standards, adopted by the PSCAA Board on October 25, 2012. These rule changes were adopted to help implement the recommendations of the Tacoma-Pierce County Clean Air Task Force. This task force was an advisory committee of community leaders, citizen representatives, public health advocates, and other affected parties convened from May 2011 through December 2011 to develop PM2.5 reduction strategies for the Tacoma-Pierce County area. The task force had three primary recommendations:

• Strategy #1: Enhancing enforcement of burn bans—This strategy is intended to ensure that those who are contributing the most to the fine particle pollution during periods of the poorest air quality reduce their emissions.

• Strategy #2: Requiring removal of uncertified wood stoves and inserts—The intent of this strategy is to reduce pollution by removing the older, more polluting wood stoves and inserts from the nonattainment area.

• Strategy #3: Reducing fine particle pollution from other sources—Approximately one-quarter to one-third of the reductions needed to meet the federal fine particle pollution standard will be achieved through new federal regulations and local initiatives related to gasoline and diesel engines, ships, and industry.

The SIP revision submitted by Ecology requests EPA approval of the revised PSCAA Regulation 1—Article 13: Solid Fuel Burning Device Standards as a regulation that strengthens the SIP. Specifically, the revised PSCAA regulation implements the task force strategies of enhancing the enforcement of burn bans and requiring the removal of uncertified wood stoves and inserts. Strategy #3 is not included as part of this SIP revision because the emission reductions will be achieved primarily through changes to the federal regulations as well as ongoing efforts such as those funded under the Diesel Emissions Reduction Act. While these strategies were recommended by the task force specifically to address PM2.5 pollution in the Tacoma-Pierce County nonattainment area, the rule revisions contained in PSCAA Regulation 1—Article 13 apply throughout the jurisdiction of Puget Sound Clean Air Agency.

III. Proposed Action

EPA is proposing to approve Washington's SIP revision dated November 28, 2012, specifically Appendix A, “2008 Baseline Emissions Inventory and Documentation” and Appendix B, “SIP Strengthening Rules.” We have made the determination that this action is consistent with section 110 of the CAA. EPA is soliciting public comments which will be considered before taking final action.

IV. Statutory and Executive Order Reviews

Under the CAA, the Administrator is required to approve a SIP submission that complies with the provisions of the CAA and applicable Federal regulations. 42 U.S.C. 7410(k); 40 CFR 52.02(a). Thus, in reviewing SIP submissions, EPA's role is to approve state choices, provided that they meet the criteria of the CAA. Accordingly, this action merely proposes to approve state law as meeting Federal requirements and does not impose additional requirements beyond those imposed by state law. For that reason, this proposed action:

• Is not a “significant regulatory action” subject to review by the Office of Management and Budget under Executive Order 12866 (58 FR 51735, October 4, 1993);

• Does not impose an information collection burden under the provisions of the Paperwork Reduction Act (44 U.S.C. 3501 et seq.);

• Is certified as not having a significant economic impact on a substantial number of small entities under the Regulatory Flexibility Act (5 U.S.C. 601 et seq.);

• Does not contain any unfunded mandate or significantly or uniquely affect small governments, as described in the Unfunded Mandates Reform Act of 1995 (Pub. L. 104-4);

• Does not have Federalism implications as specified in Executive Order 13132 (64 FR 43255, August 10, 1999);

• Is not an economically significant regulatory action based on health or safety risks subject to Executive Order 13045 (62 FR 19885, April 23, 1997);

• Is not a significant regulatory action subject to Executive Order 13211 (66 FR 28355, May 22, 2001);

• Is not subject to requirements of Section 12(d) of the National Technology Transfer and Advancement Act of 1995 (15 U.S.C. 272 note) because application of those requirements would be inconsistent with the CAA; and

• Does not provide EPA with the discretionary authority to address, as appropriate, disproportionate human health or environmental effects, using practicable and legally permissible methods, under Executive Order 12898 (59 FR 7629, February 16, 1994).

In addition, this proposed approval does not impose substantial direct costs on tribal governments or preempt tribal law as specified by Executive Order 13175 (65 FR 67249, November 9, 2000). Consistent with EPA policy, EPA nonetheless provided a consultation opportunity to the Puyallup Tribe in a letter dated December 11, 2012. EPA did not receive a request for consultation.

List of Subjects in 40 CFR Part 52

Environmental protection, Air pollution control, Incorporation by reference, Nitrogen dioxide, Particulate matter, Reporting and recordkeeping requirements, Sulfur oxides, Volatile organic compounds.

Authority: 42 U.S.C. 7401 et seq.

Dated: January 7, 2013.
Dennis J. McLerran,
Regional Administrator, Region 10.

[FR Doc. 2013-01339 Filed 1-22-13; 8:45 am]

BILLING CODE 6560-50-P